DEPARTMENT OF THE INTERIOR

Bureau of Land Management

[LLWO260000 L10600000 XQ0000]

Notice of Call for Nominations for the Wild Horse and Burro Advisory Board

AGENCY: Bureau of Land Management, Interior.

ACTION: Notice.

SUMMARY: The purpose of this notice is to solicit public nominations for three members to the Wild Horse and Burro Advisory Board (Board). The Board provides advice concerning the management, protection, and control of wild free-roaming horses and burros on the public lands administered by the Department of the Interior, through the Bureau of Land Management (BLM) and the Department of Agriculture, through the Forest Service. The BLM is changing the makeup of the Board by replacing one of the two livestock positions with an additional public interest position.

DATES: Nominations should be submitted to the address listed below no later than August 5, 2010.

ADDRESSES: National Wild Horse and Burro Program, Bureau of Land Management, L Street Mailing, 1849 C Street, NW., Washington, DC 20240, Attn: Sharon Kipping. Or you may send a fax to Ms. Kipping at 202-912-7182, or e-mail her at Sharon_Kipping@blm.gov. If you have questions, please call Ms. Kipping at (202) 912-7263.

FOR FURTHER INFORMATION CONTACT: Don Glenn, Division Chief, Wild Horse and Burro Program, (202) 912-7297. Individuals who use a telecommunications device for the deaf (TDD) may contact Ramona Delorme at any time by calling the Federal Information Relay Service at 1-800-877-8339.

SUPPLEMENTARY INFORMATION: Nominations for a term of three years are needed to represent the following categories of interest:

Natural Resource Management;

Wild Horse and Burro Research;

Public Interest (with special knowledge of equine behavior).

Individuals may nominate themselves or others. Any individual or organization may nominate one or more persons to serve on the Board. The following information must accompany all nominations for the individual to be considered for a position.

Nominations will not be accepted without a complete resume of the nominee, including the following:

1. Which positions the nominee should be considered for.

2. Nominee's Full Name.

3. Business Address and Phone (include e-mail address if applicable).

4. Home Address and Phone (include e-mail address if applicable).

5. Present Occupation/Title.

6. Education (colleges, degrees, major field of study).

7. Career Highlights: Significant related experience, civic and professional activities, elected offices (including prior advisory committee experience or career achievements related to the interest to be represented). Attach additional pages, as necessary.

8. Qualifications: Education, training, and experience that qualify the nominee to serve on the Board.

9. Experience or knowledge of wild horse and burro management and the issues facing the BLM.

10. Experience or knowledge of horses or burros (equine health, training and management).

11. Experience in working with disparate groups to achieve collaborative solutions (e.g, civic organizations, planning commissions, school boards).

12. Any BLM permits, leases, or licenses that the nominee holds (or state Not Applicable).

Attach or have letters of references sent from special interests or organizations. Also include, if applicable, letters of endorsement from business associates, friends, co-workers, local, State, and/or Federal Government, or members of Congress along with any other information that speaks to the nominee's qualifications.

Simultaneous with this notice, the BLM State offices will issue press releases providing information for submitting nominations.

As appropriate, certain Board members may be appointed as Special Government Employees. Special Government Employees serve on the board without compensation, and are subject to financial disclosure requirements in the Ethics in Government Act and 5 CFR part 2634. Nominations are to be sent to the address listed in the ADDRESSES section above.

Each nominee will be considered for selection according to his or her ability to represent his or her designated constituency, analyze and interpret data and information, evaluate programs, identify problems, work collaboratively in seeking solutions and formulate and recommend corrective actions. Individuals who are currently Federal or State employees, or federally registered lobbyists are not eligible to serve on the Board.

The Board will meet no less than two times annually. The BLM Director may call additional meetings in connection with special needs for advice.

Bud Cribley,
Deputy Assistant Director, Renewable Resources and Planning.

[FR Doc. 2010-14924 Filed 6-18-10; 8:45 am]

BILLING CODE 4310-84-P